DEPARTMENT OF COMMERCE

National Oceanic and Atmospheric Administration

[Docket No. 000817236-2242-04, I.D. No. 082702F]

General Grant Administration Terms and Conditions of the Coastal Ocean Program for FY2003

AGENCY: National Centers for Coastal Ocean Sciences/Center for Sponsored Coastal Ocean Research, Coastal Ocean Program (NCCOS/CSCOR/COP), National Ocean Service (NOS), National Oceanic and Atmospheric Administration (NOAA), Department of Commerce.

ACTION: Notice for financial assistance for project research grants and cooperative agreements.

SUMMARY: It is the intent of NOAA/NOS/NCCOS/CSCOR/COP to provide direct financial assistance in the form of discretionary research grants and cooperative agreements under its program for the management of coastal ecosystems.

This document does not solicit proposals but rather describes the general grant administration terms and conditions of the NCCOS/CSCOR/COP program for fiscal year 2003. It is NCCOS/CSCOR/COP's intent to issue supplemental Announcements of Opportunities (AOs) to request proposals on specific projects throughout the year according to the appropriations issued by Congress. AOs will be issued through the Federal Register. Information regarding these announcements will be made available on the NCCOS/CSCOR/COP Home Page and NCCOS/CSCOR/COP's e-mail list. These announcements will provide specific program descriptions.

DATES: Effective November 8, 2002.

ADDRESSES: Center for Sponsored Coastal Ocean Research/Coastal Ocean Program, National Oceanic and Atmospheric Administration, 1305 East West Highway, SSMC#4, Room 8218, Silver Spring, MD 20910-3282

FOR FURTHER INFORMATION CONTACT: Leslie McDonald, NCCOS/CSCOR/COP Grants Administrator, (301)713-3338/x155.

SUPPLEMENTARY INFORMATION:

Electronic Access

NOAA Standard Form and COP-specific application forms are accessible with instructions on the following COP Internet Site: http://www.cop.noaa.gov, under the COP Grants Information section, Part D, Application Forms for Initial Proposal Submission.

Forms may be viewed and in most cases filled in by computer. All forms must be printed, completed, and mailed to NCCOS/CSCOR/COP with original signatures. If you are unable to access this information, you may call COP at 301-713-3338 to leave a mailing request.

General information about the COP's projects and publications is also available on the NCCOS/CSCOR/COP Internet Site.

Background

(1) Program Authority(s): 16 U.S.C. 1456c; 33 U.S.C. 883d; 33 U.S.C. 1442; 15 U.S.C. 1540; and/or Pub.L. 105-383.

(2) Catalog of Federal Domestic Assistance (CFDA): 11.478 Coastal Ocean Program.

(3) Program Description: NOAA's NCCOS/CSCOR/COP provides predictive capability for managing coastal ecosystems through sponsorship of research. NCCOS/CSCOR/COP seeks to deliver the highest quality science in a timely manner for important coastal decisions. It supports research on critical issues that exist in the Nation's estuaries, coastal waters, and Great Lakes and translates its findings into accessible information for coastal managers, planners, lawmakers, and the public. The COP also supports educational activities at the graduate and undergraduate level to facilitate the development of qualified professionals in the fields of coastal science, management, and policy.

Coastal Ecosystem Oceanography

NCCOS/CSCOR/COP supports the conservation and management of marine ecosystems through sponsorship of improved ecological and oceanographic predictions for resource management. Studies focus on (1) understanding critical processes that control the abundance, distribution, and replenishment of fishery resources; (2) determining critical habitat processes that influence fishery ecosystems; and (3) quantifying ecosystem species interactions to develop models that can be used in management decisions. Current efforts support studies dealing with cod and haddock on Georges Bank, and salmon in the Pacific Northwest.

Cumulative Coastal Impacts

NCCOS/CSCOR/COP sponsors a series of regional watershed projects on the causes and impacts of multiple stresses on coastal ecosystems. Studies focus on (l) developing indicators of stress; (2) predicting impacts of multiple stresses (3) valuing natural resources in ecological and economical terms; and (4) predicting the outcomes of management strategies. Current efforts are located in Chesapeake Bay, Florida Bay and the Keys, the coastal areas of South Carolina, the Pacific Northwest, and coral reefs in Florida and Hawaii.

Harmful Algal Blooms (HABs) and Hypoxia

NCCOS/CSCOR/COP also sponsors studies on the ecology and oceanography of harmful algal blooms (HABs), focusing on identifying and modeling linkages between the physiology, ecology, behavior and toxicity of HABs and local/regional circulation patterns and water quality. These results will not only generate greater general knowledge of problematic species in the U.S. coastal waters, but also provide a foundation for development of regional HAB forecasting capabilities, eventually providing a means to assess the effectiveness of prevention, control, and mitigation strategies developed in the programs. Current regional efforts are located in the Gulf of Maine, the Pacific Northwest, Hawaii, eastern Long Island, the coastal regions of the mid-Atlantic States, the Great Lakes, and the western coast of Florida.

Eutrophication and resulting hypoxia have become common problems affecting living marine resources and recreational uses of coastal waters. The NCCOS/CSCOR/COP supports research examining the influences of nutrient loading, physical forcing, climate change, and extent of hypoxic conditions (i.e., the “dead zone”) on the ecosystem and fisheries of the northern Gulf of Mexico.

Benefits of the NCCOS/CSCOR/COP

Continued population pressures on the Nation's coastal areas and ongoing changes in the environment will continue to stress our coastal waters, bays, and estuaries and the Great Lakes. NCCOS/CSCOR/COP has focused on developing information for longer range U.S. management and policy at large and complex scales. NCCOS/CSCOR/COP research will help the U.S. respond to the major challenges of the next century and to balance the needs of economic growth with those of conserving the environment and its coastal resources.

(4) Funding Availability: On average, annual funding for each Announcement of Opportunity is approximately $l,000,000. Each NCCOS/CSCOR/COP project generally consists of several coordinated investigations with separate awards, ranging from $5,000 to $500,000. Actual funding levels will depend upon the final budget appropriations for the fiscal year. Individual AOs will be released with specific applicable dollar amounts.

The funding history of NCCOS/CSCOR/COP's Direct Financial Assistance is as follows: FY99 $8.5M; FY00 $15M, FY01 15.5M; FY02 $20M; and FY03 is estimated at $22.2M. Publication of this notice does not obligate Commerce/NOAA to any specific award or to obligate any part of the entire amount of funds available. Recipients and subrecipients are subject to all Federal laws and agency policies, regulations, and procedures applicable to Federal financial assistance awards.

If an application for a financial assistance award is selected for funding, NCCOS/CSCOR/COP has no obligation to provide any additional prospective funding in connection with that award in subsequent years.

(5) Matching Requirements: None.

(6) Type of Funding Instrument: They are project grants and cooperative agreements.

(a) Research Project Grants: A research project grant is one in which substantial programmatic involvement by NOAA is not anticipated by the recipient during the project period. Applicants for grants must demonstrate an ability to conduct the proposed research with minimal assistance, other than financial support, from NOAA.

(b) Cooperative Agreements: A cooperative agreement implies that NOAA will assist recipients in conducting the proposed research. The application should be presented in a manner that demonstrates the applicant's ability to address the research problem in a collaborative manner with NOAA. A cooperative agreement is appropriate when substantial NOAA involvement is anticipated. This means that the recipient can expect substantial agency collaboration, participation, or intervention in project performance. Substantial involvement exists when: responsibility for the management, control, direction, or performance of the project is shared by the assisting agency and the recipient; or the assisting agency has the right to intervene (including interruption or modification) in the conduct or performance of project activities.

(c) Determination of which instrument to use: Applicants must specify the type of award for which they are applying, either a grant or a cooperative agreement. The funding agency will review the applications in accordance with the evaluation criteria. Before issuing awards, NOAA will determine whether a grant or cooperative agreement is the appropriate instrument based upon the need for substantial NOAA involvement in the project.

(d) In an effort to maximize the use of limited resources, applications from non-Federal, non-NOAA Federal and NOAA Federal applicants will be competed against each other. Research proposals selected for funding from non-Federal researchers will be funded through a project grant or cooperative agreement.

Research proposals selected for funding from non-NOAA Federal applicants will be funded through an interagency transfer, provided legal authority exists for the Federal applicant to receive funds from another agency. PLEASE NOTE: Before non-NOAA Federal applicants may be funded, they must demonstrate that they have legal authority to receive funds from another Federal agency in excess of their appropriation. Because this announcement is not proposing to procure goods or services from the applicants, the Economy Act (31 U.S.C. section 1535) is not an appropriate basis. Support may be solely through COP or partnered with other Federal offices and agencies.

Proposals deemed acceptable from NOAA Federal researchers will be funded through an intraagency transfer.

(7) Eligibility Criteria: Eligible applicants are institutions of higher education, other non-profits, state, local, Indian Tribal Governments, and Federal agencies that possess the statutory authority to receive financial assistance.

(i) Researchers must be employees of an eligible institution listed above; and proposals must be submitted through that institution. Non-Federal researchers should comply with their institutional requirements for proposal submission.

(ii) Non-NOAA Federal applicants will be required to submit certifications or documentation showing that they have specific legal authority to receive funds from the Department of Commerce (DOC) for this research.

(iii) NCCOS/CSCOR/COP will accept proposals that include foreign researchers as collaborators with a researcher, who has met the above stated eligibility requirements; and who also is an employee of an eligible institution listed above.

(iv) Non-Federal researchers affiliated with NOAA-University Joint Institutes should comply with joint institutional requirements; they will be funded through grants either to their institutions or to joint institutes.

(8) Award Period: Typically, NCCOS/CSCOR/COP's projects average 1 to 5 years in length. Projects covering more than 1 year will usually be funded on an annual basis.

(9) Indirect Costs: Regardless of any approved indirect cost rate applicable to the award, the maximum dollar amount of allocable indirect costs for which DOC will reimburse the recipient shall be the lesser of (a) the line item amount for the Federal share of indirect costs contained in the approved budget of the award or (b) the Federal share of the total allocable indirect costs of the award based on the indirect cost rate approved by a cognizant or oversight Federal agency and current at the time the cost was incurred, provided the rate is approved on or before the award end date.

(10) Application Forms: When applying for financial assistance under a published AO, applicants will be able to obtain both the standard NOAA application forms and COP-specific application forms at the COP home page. Forms may be viewed and, in most cases, filled in by computer. All forms must be printed, completed, and mailed to NCCOS/CSCOR/COP with original signatures in blue ink. If you are unable to access this information, you may also call (301)713-3338 to leave a mail request. At time of submission, the applicant will follow the proposal requirements presented in the funding announcement.

At time of original application for financial assistance, all applicants are required to submit the NOAA Standard Form 424 (Rev July 1997), “Application for Federal Assistance” and a COP Summary Proposal Budget Form for each fiscal year increment in lieu of the NOAA Standard Form 424A (Rev July 1997),“Budget Information for Non-Construction Programs.” Applicants shall also include a budget narrative/justification that supports all proposed budget categories. The SF-424A shall be requested only from those recipients subsequently recommended for award. Multi-institution proposals must include a Summary Proposal Budget Form from each institution.

Disposition of Unsuccessful Application: Applications not adhering to these stated guidelines will be returned to the applicant without further review.

In addition, other forms required as part of a complete application package from only those recipients subsequently recommended for award include the NOAA Standard Form 424-B, “Assurances for Non-Construction Programs”; the CD-511, “Certifications Regarding Debarment, Suspension and Other Responsibility Matters; Drug-Free Workplace Requirements and Lobbying”; the CD-512, “Certification Regarding Debarment, Suspension, Ineligibility and Voluntary Exclusion-Lower Tier Covered Transactions and Lobbying” (this certification is to remain with the recipient and is not forwarded to the Grants Officer); the CD-346, “Applicant for Funding Assistance”(for non-profit organizations) and the SF-LLL, “Disclosure of Lobbying Activities” (if applicable).

(11) Project Funding Priorities: Priority considerations will be given to proposals that promote balanced coverage of the science objective stated in the later AOs, avoid duplication of completed or ongoing work, and increase geographic diversity. Additional and/or other priorities may be detailed in NCCOS/CSCOR/COP AOs.

(12) Evaluation Criteria: Unless otherwise stated in an individual funding announcement, the following criteria and evaluation weightings will be used for evaluating both solicited and unsolicited proposals:

(a) Scientific Merit (20 percent): Intrinsic scientific value of the proposed work and the likelihood that it will lead to fundamental advancements, new discoveries or will have substantial impact on progress in that field;

(b) Research Performance Competence (20 percent): The capability of the investigator and collaborators to complete the proposed work as evidenced by past research accomplishments, previous cooperative work, timely communication, and the sharing of findings, data, and other research products;

(c) Relevance (20 percent): Likelihood that the research will make substantial contributions or develop products leading to improved management of coastal resources;

(d) Technical Approach (20 percent): The proposed work has focused science objectives and a complete and efficient strategy for making measurements and observations in support of the objectives. The approach is sound and logically planned throughout the cycle of the proposed work;

(e) Linkages (10 percent): Connections to existing or planned studies, or demonstrated cooperative arrangements to provide or use data or other research results to achieve the objectives.

(f) Costs (10 percent): Adequacy of the proposed resources to accomplish the proposed work, and the appropriateness of the requested funding with respect to the total available funds.

(l3) Selection Procedures: All proposals will be evaluated and scored individually in accordance with the assigned weights of the above evaluation criteria by independent peer mail review and/or by independent peer panel review. Both Federal and non-Federal experts in the field may be used in this process. The peer mail reviewers will be several individuals with expertise in the subjects addressed by particular proposals. Each mail reviewer will see only certain individual proposals within his or her area of expertise, and score them individually on a scale of one to five, where scores represent respectively: Excellent (1), Very Good (2), Good (3), Fair (4), Poor (5).

The peer panel will comprise of 4 to 12 individuals, with each individual having expertise in a separate area, so that the panel, as a whole, covers a range of scientific expertise. The panel will have access to all mail reviews of proposals, and will use the mail reviews in discussion and evaluation of the entire slate of proposals. All proposals will be evaluated and scored individually. The peer panel shall rate the proposals using the evaluation criteria and scores provided above and used by the mail reviewers. The individual peer panelist scores shall be averaged for each application and presented to the program officers. No consensus advice will be given by the independent peer mail review or the review panel.

The program officers will neither vote or score proposals as part of the independent peer panel nor participate in discussion of the merits of the proposal. Those proposals receiving an average panel score of “Fair” or “Poor” will not be given further consideration, and proposers will be notified of non-selection.

For the proposals rated by the panel as either “Excellent,” “Very Good,” or “Good”, the program officers will (a) select the proposals to be recommended for funding by average panel ratings, and/or by applying the project funding priorities listed in section 11 and specific objectives published in the AO; (b) determine the total duration of funding for each proposal; and (c) determine the amount of funds available for each proposal subject to the availability of fiscal year funds. Awards may not necessarily be made in rank order. In addition, proposals rated by the panel as either “Excellent,” “Very Good,” or “Good” that are not funded in the current fiscal period, may be considered for funding in another fiscal period without having to repeat the competitive, review process.

Recommendations for funding are then forwarded to the selecting official, the Director of NCCOS/CSCOR/COP, for the final funding decision. The Director shall make his final funding decisions based upon the program officials' recommendations, project funding priorities and availability of funds.

Investigators may be asked to modify objectives, work plans or budgets, and provide supplemental information required by the agency prior to the award. When a decision has been made (whether an award or declination), verbatim anonymous copies of reviews and summaries of review panel deliberations, if any, will be made available to the proposer. Declined applications will be held in the NCCOS/CSCOR/COP for the required 3 years in accordance with the current retention requirements, and then destroyed.

(14) Other Requirements:

(a) The Department of Commerce Pre-Award Notification of Requirements for Grants and Cooperative Agreements contained in the Federal Register notice of October 1, 2001 (66 FR 49917), as amended by the Federal Register notice published on October 30, 2002 (67 FR 66109), is applicable to this solicitation.

(b) Intergovernmental Review: (a) Applications under this program are not subject to Executive Order (E.O.) 12372,

“Intergovernmental Review of Federal Programs.” (b) It has been determined that this notice is not significant for purposes of E.O. 12866. Pursuant to 5 U.S.C. 553 (a)(2), an opportunity for public notice and comment is not required for this notice relating to grants, benefits and contracts. Because this notice is exempt from the notice and comment provisions of the Administrative Procedure Act, a Regulatory Flexibility Analysis is not required, and none has been prepared. It has been determined that this notice does not contain policies with Federalism implications as that term is defined in Executive Order 13132.

(c) Data Archiving: Any data collected in projects supported by NCCOS/CSCOR/COP should be delivered to a National Data Center (NDC), such as the National Oceanographic Data Center (NODC), in a format to be determined by the institution, the NODC, and the Program Officer. It is the responsibility of the institution for the delivery of these data; the DOC will not provide additional support for delivery beyond the award. Additionally, all biological cultures established, molecular probes developed, genetic sequences identified, mathematical models constructed, or other resulting information products established through support provided by NCCOS/CSCOR/COP are encouraged to be made available to the general research community at no or modest handling charge (to be determined by the institution, Program Officer, and DOC).

(d) Please note that NOAA is developing a policy on internal overhead charges, NOAA scientists considering submission of proposals should contact the appropriate NCCOS/CSCOR/COP Program Manager for the latest information.

(e) Paperwork Reduction Act: This notification involves collection-of-information requirements subject to the Paperwork Reduction Act. The use of Standard Forms 424, 424A, 424B, and SF-LLL has been approved by the Office of Management and Budget (OMB) under control numbers 0348-0043, 0348-0044, 0348-0040 and 0348-0046.

The following requirements have been approved by OMB under control number 0648-0384; a Summary Proposal Budget Form (30 Minutes per response), a Project Summary Form (30 minutes per response), a standardized format for the Annual Performance Report (5 hours per response), a standardized format for the Final Report (10 hours per response), and the submission of up to 20 copies of proposals (10 minutes per response). The response estimates include the time for reviewing instructions, searching existing data sources, gathering and maintaining the data needed, and completing and reviewing the collection of information. Send comments regarding this burden estimate or any other aspect of this collection of information, including suggestions for reducing this burden, to Leslie.Mcdonald@noaa.gov. Copies of these forms and formats can be found on the COP home page under the Grants Information section.

Notwithstanding any other provision of law, no person is required to respond to, nor shall any person be subject to a penalty for failure to comply with a collection of information subject to the requirements of the Paperwork Reduction Act, unless that collection displays a currently valid OMB control number.

Dated: October 31, 2002.
Alan Neuschatz,
Associated Assistant Administrator for Ocean Services and Coastal Zone Management.

[FR Doc. 02-28511 Filed 11-7-02; 8:45 am]

BILLING CODE 3510-22-S